DEPARTMENT OF HOMELAND SECURITY

Coast Guard

[CGD07-05-115]

Announcement of Public Hearing Regarding the Shakett Creek Pedestrian Bridge, Nokomis, FL Formerly Known as the Shakett Creek Railroad Bridge

AGENCY: Coast Guard, DHS.

ACTION: Notice of public hearing.

SUMMARY: The U.S. Coast Guard will hold a public hearing at the Venice High School, 1 Indian Avenue, Venice, Florida 34285 to provide the Shakett Creek Pedestrian Bridge owner, waterway users and other interested persons the opportunity to offer evidence and be heard as to whether any alterations of the Shakett Creek Pedestrian Bridge in Nokomis, Florida are necessary to provide reasonably free, safe and unobstructed passage for waterborne traffic.

DATES: The public hearing will be held at 7 p.m., October 12, 2005.

ADDRESSES: The hearing will be held at the Venice High School, 1 Indian Avenue, Venice, Florida 34285. Written comments may be submitted to Commander (obr), Seventh Coast Guard District, 909 SE 1st Avenue, Room 432, Miami, Florida 33131-3050. Commander (obr) maintains the public docket and comments and material received from the public will become part of docket [CGD07-05-115] and will be available for inspection or copying at the above address between 8 a.m. and 4:30 p.m., Monday through Friday, except Federal holidays.

FOR FURTHER INFORMATION CONTACT: Mr. Barry Dragon, Seventh Coast Guard District, Bridge Branch, telephone number 305-415-6743.

SUPPLEMENTARY INFORMATION: The Coast Guard has received numerous comments from the public stating the Shakett Creek Pedestrian Bridge is unreasonably obstructive to navigation. The Coast Guard is conducting a detailed investigation in light of these comments. A public hearing is a required part of the detailed investigation process. All interested parties will have an opportunity to be heard and to present evidence as to whether any alteration of this bridge is needed and, if so, what alterations are needed, giving due consideration to the necessities of free and unobstructed water navigation.

Written statements and exhibits may be submitted in place of or in addition to oral statements and will be made part of the hearing record. Such written statements and exhibits may be delivered at the hearing or mailed to Chief, Bridge Operations Section, Seventh District Bridge Branch 909 SE 1st Avenue, Room 432, Miami, Florida 33131-3050.

Dated: August 30, 2005.
W.E. Justice,
Captain, U.S. Coast Guard, Commander, Seventh Coast Guard District, Acting.

[FR Doc. 05-18148 Filed 9-12-05; 8:45 am]

BILLING CODE 4910-15-P